GOVERNMENT ACCOUNTABILITY OFFICE

Health Information Technology Policy Committee Vacancy

AGENCY: Government Accountability Office (GAO).

ACTION: Notice on letters of nomination to fill vacancy.

SUMMARY: The American Recovery and Reinvestment Act of 2009 (ARRA) established the Health Information Technology Policy Committee (Health IT Policy Committee) and gave the Comptroller General responsibility for appointing 13 of its 20 members. ARRA requires that one member have expertise in health information privacy and security. Due to a vacancy on the Committee, GAO is accepting nominations of individuals to fill this position. For this appointment I am announcing the following: Letters of nomination and resumes should be submitted between July 15 and August 9, 2013 to ensure adequate opportunity for review and consideration of nominees.

ADDRESSES:

GAO: HITCommittee@gao.gov.

GAO: 441 G Street NW., Washington, DC 20548.

FOR FURTHER INFORMATION CONTACT: GAO: Office of Public Affairs, (202) 512-4800. 42 U.S.C. 300jj-12.

Gene L. Dodaro,
Comptroller General of the United States.

[FR Doc. 2013-17114 Filed 7-17-13; 8:45 am]

BILLING CODE 1610-02-M